ENVIRONMENTAL PROTECTION AGENCY

[FRL-9199-1]

Notice of Availability of Final NPDES General Permits MAG910000 and NHG910000 for Discharges From Remediation Activities in the Commonwealth of Massachusetts (Including Both Commonwealth and Indian Country Lands) and the State of New Hampshire: The Remediation General Permit (RGP)

AGENCY: Environmental Protection Agency (EPA).

ACTION: Notice of availability of final NPDES General Permits MAG910000 And NHG910000.

SUMMARY: The Director of the Office of Ecosystem Protection, EPA—New England, is providing a notice of availability of the final National Pollutant Discharge Elimination System (NPDES) general permits for discharges from remediation activities to certain waters of the Commonwealth of Massachusetts (including both Commonwealth and Indian country lands) and the State of New Hampshire. These General Permits will replace the existing Remediation General Permits, which will expire on September 9, 2010. The notice of availability of the draft NPDES general permits for remediation activity discharges was published in the Federal Register on April 26, 2010 (FR-10-014) and the public notice period ran from April 26, 2010 to May 26, 2010. Comments on the draft General Permits were received during the public notice period and have been addressed in a Response to Comments document, available with the final permits.

The final General Permits establish Notice of Intent (NOI) requirements, effluent limitations, standards, prohibitions, and management practices for remediation facilities discharging treated contaminated groundwater.

Owners and/or operators of facilities with remediation discharges, including those currently authorized to discharge under the expiring General Permits, will be required to submit an NOI to be covered by the General Permits to both EPA—New England and the appropriate state agency. After EPA and the State have reviewed the NOI, the facility will receive a written notification from EPA of permit coverage and authorization to discharge under the General Permit. The eligibility requirements for coverage under the General Permits are discussed in detail under Part I.B.2., and Appendix V. The reader is strongly urged to review these sections to determine eligibility. An individual permit may be necessary if the discharger cannot meet the terms and conditions or eligibility requirements of the RGP.

DATES: The general permits shall be effective on September 10, 2010 and will expire at midnight, five (5) years from the effective date on September 9, 2015. In accordance with 40 CFR Part 23, these permit shall be considered issued for the purpose of judicial review two (2) weeks after the Federal Register Publication. Under section 509(b) of the Clean Water Act, judicial review of these general permits can be conducted by filing a petition for review in the United States Court of Appeals within 120 days after the permit is considered issued for purposes of judicial review. Under section 509(b)(2) of the Clean Water Act, the requirements in this permit may not be challenged at a later date in civil or criminal proceedings to enforce these requirements. In addition, these permits may not be challenged in other agency proceedings.

ADDRESSES: The required notification information to obtain permit coverage is provided in the general permits. This information shall be submitted to both EPA and the appropriate state. Notification information may be sent via regular or overnight mail to EPA at EPA-Region 1, Office of Ecosystem Protection, OEP06-1, 5 Post Office Square, Suite 100, Boston, Massachusetts 02109-3912 or e-mailed to NPDES.Generalpermits@epa.gov. Notification information shall be submitted to the appropriate State agency at the addresses listed in Appendix V of the General Permits.

FOR FURTHER INFORMATION CONTACT: Additional information concerning the final General Permits may be obtained between the hours of 9 a.m. and 5 p.m. Monday through Friday, excluding holidays, from Victor Alvarez at Alvarez.Victor@epa.gov or (617) 918-1572. The general permits may be viewed at the EPA Web site http://www.epa.gov/region1/npdes/rgp.html. To obtain a paper copy of the general permits, please contact Mr. Alvarez using the contact information provided above. A reasonable fee may be charged for copying requests.

Dated: August 30, 2010.
Ira W. Leighton,
Acting Regional Administrator, Region 1.

[FR Doc. 2010-22474 Filed 9-8-10; 8:45 am]

BILLING CODE 6560-50-P